DEPARTMENT OF ENERGY

Federal Energy Regulatory Commission

[Docket No. CP04-4-000]

Lake Charles Express LLC; Notice Of Site Visit

November 18, 2003.

On December 9 through December 11, 2003, the Office of Energy Projects staff and representatives of Lake Charles Express LLC (Lake Charles Express) will conduct a site visit of the Lake Charles Express Project in Beauregard, Allen, Jefferson Davis, and Calcasieu Parishes, Louisiana.

All interested parties may attend. Those planning to attend must provide their own transportation. Interested parties can meet staff on December 9, at about 3:30 p.m., in the parking lot at the Best Suites of America, 401 Lakeshore Drive, Lake Charles, Louisiana. Staff will begin the inspection trip on December 10, and 11, at about 7:30 a.m., at the Best Suites of America. Mr. Monty Collins of Lake Charles Express can be contacted at telephone (713) 501-6526.

For further information, please contact the Office of External Affairs at 1-866-208-FERC.

Magalie R. Salas,
Secretary.

[FR Doc. E3-00373 Filed 11-24-03; 8:45 am]

BILLING CODE 6717-01-P